DEPARTMENT OF TRANSPORTATION

Office of the Secretary

Notice of Applications for Certificates of Public Convenience and Necessity and Foreign Air Carrier Permits Filed Under Subpart B (Formerly Subpart Q) During the Week Ending May 21, 2004

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period, DOT may process the application by expedited procedures. Such procedures may consist of the adoption of a show-cause order, a tentative order, or in appropriate cases, a final order without further proceedings.

Docket Number: OST-2001-9737.

Date Filed: May 17, 2004.

Due Date for Answers, Conforming Applications, or Motion To Modify Scope: June 7, 2004.

Description: Application of Vensecar Internacional, C.A. requesting an amendment to its application for a foreign air carrier permit authorizing it to: (1) Add the Netherlands Antilles and Jamaica as authorized intermediate points on its all-cargo flights between Venezuela and Miami; (2) engage in scheduled foreign air transportation of property and mail between a point or points in Venezuela and Houston, Texas, via the Netherlands Antilles and Jamaica; and (3) engage in scheduled foreign air transportation of property and mail from a point or points in Venezuela to San Juan, Puerto Rico, and beyond to Spain, France, the Netherlands and Germany, and beyond to points outside Europe.

Andrea M. Jenkins,
Program Manager, Docket Operations, Federal Register Liaison.

[FR Doc. 04-12536 Filed 6-2-04; 8:45 am]

BILLING CODE 4910-62-P